FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than April 15, 2008.

A. Federal Reserve Bank of Atlanta (David Tatum, Vice President) 1000 Peachtree Street, N.E., Atlanta, Georgia 30309:

1. Banco Bilbao Vizcaya Argentaria, S.A., Bilbao, Spain; to acquire 100 percent of the voting shares of Proxima Alfa Investments (USA) LLC, New York, New York, and thereby engage in (i) providing investment and financial advisory services, including acting as a registered investment adviser and as a registered commodity trading adviser; (ii) providing as agent transactional services with respect to derivatives, forward contracts, futures, options, swaps and similar transactions; (iii) serving as investment adviser to, general partner or managing member of (and, if appropriate, acting as a commodity pool operator for), and holding and placing equity interests in, private investment funds (including limited partnerships, limited liability companies and similar investment vehicles) (Private Investment Funds) that invest only in securities, derivatives, commodity contracts, and other assets and instruments that a bank holding company would be permitted to hold directly under the BHCA (Private Investment Fund Activities). These activities have been approved by Board Order (see e.g. Meridian Bancorp, Inc., 80 Fed Res. Bull. 736 (1994); The Bessemer Group, Inc., 82 Fed. Res. Bull. 569 (1996); Dresdner Bank AG, 84 Fed. Res. Bull. 985 (1998); UBS AG, 84 Fed. Res, Bull. 684 (1998); Travelers Group Inc., 84 Fed. Res. Bull. 985 (1998); KeyCorp, 84 Fed. Res. Bull. 1075 (1998); First Security Corporation, 85 Fed. Res. Bull 207 (1999); Banque National de Paris, 86 Fed. Res. Bull. 118 (2000); Letter from the Federal Reserve Bank of New York, dated June 3, 2003 (approval for Commerzbank); and Letter from the Federal Reserve Bank of Boston, dated December 16, 2002 (approval for Boston Private Financial Holdings, Inc.); (iv) investing and trading as principal in (A) foreign exchange; (B) forward contracts, options, futures, options on futures, swaps and similar contracts, whether traded on exchanges or not, based on any rate, price, financial asset nonfinancial asset, group of assets, other than a bank-ineligible security, subject to certain conditions and (C) forward contracts, options, options on futures, swaps, and similar contracts, whether traded on exchanges or not, based on an index of a rate, a price, or the value of any financial asset, nonfinancial asset, or group of assets, if the contract requires cash settlement, pursuant to sections 225.28(b)(6)(i); (b)(6)(iv); (b)(7)(v); and (b)(8)(ii) of Regulation Y.

Board of Governors of the Federal Reserve System, March 26, 2008.
Robert deV. Frierson,
Deputy Secretary of the Board.

[FR Doc. E8-6524 Filed 3-28-08; 8:45 am]

BILLING CODE 6210-01-S